DEPARTMENT OF COMMERCE

National Oceanic and Atmospheric Administration

RIN 0648-XW97

Fisheries of the Caribbean, Gulf of Mexico, and South Atlantic; Coral and Coral Reefs off the Southern Atlantic States; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Mr. Don DeMaria. If granted, the EFP would authorize Mr. DeMaria to collect and retain, with certain conditions, limited numbers of gorgonian corals from Federal waters, off the coast of North Carolina. The specimens would be used to support research efforts towards a grant awarded to the National Cancer Institute to screen marine invertebrates for possible anti-cancer compounds.

DATES: Comments must be received no later than 5 p.m., eastern time, on July 28, 2010.

ADDRESSES: You may submit comments on the application by any of the following methods:

• E-mail: Nikhil.Mehta@noaa.gov. Include the following document identifier in the subject line of the e-mail comment: “DonDeMaria_EFP”.

• Mail: Nikhil Mehta, Southeast Regional Office, NMFS, 263 13th Avenue South, St. Petersburg, FL 33701.

• Fax: 727-824-5308.

The application and related documents are available for review upon written request to any of the above addresses.

FOR FURTHER INFORMATION CONTACT: Nikhil Mehta, 727-824-5305; fax: 727-824-5308; e-mail: Nikhil.Mehta@noaa.gov.

SUPPLEMENTARY INFORMATION: The EFP is requested under the authority of the Magnuson-Stevens Fishery Conservation and Management Act (16 U.S.C 1801 et seq.), and regulations at 50 CFR 600.745(b) concerning exempted fishing.

This action involves activities covered by regulations implementing the Fishery Management Plan for Coral, Coral Reefs, and Live/Hardbottom Habitat of the South Atlantic Region. The applicant has requested authorization to collect a maximum of 11 lb (5 kg) of gorgonian corals belonging to the Genus Thesea. Specimens would be collected in Federal waters off the coast of North Carolina. The project proposes to use SCUBA gear to make the collections. Samples would be collected over a period of 2 months, commencing on the date of issuance of the EFP.

The overall intent of the project is to support research efforts to screen marine invertebrates for possible anti-cancer compounds. The research is part of a contract (No. HHSN261200900012C) between the National Cancer Institute (http://www.cancer.gov/), and the Coral Reef Research Foundation (CRRF, http://www.coralreefresearchfoundation.org/). Samples would be collected by Mr. DeMaria, who is a sub-contractor for CRRF.

NMFS finds this application warrants further consideration. Based on a preliminary review, NMFS intends to issue the requested EFP, pending receipt of public comments, as per 50 CFR 600.745(b)(3)(i). Possible conditions the agency may impose on this permit, if it is indeed granted, include but are not limited to, a prohibition on conducting research within marine protected areas, marine sanctuaries, special management zones, or artificial reefs without additional authorization. A report on the project findings would be due at the end of the collection period, to be submitted to NMFS and reviewed by the South Atlantic Fishery Management Council.

A final decision on issuance of the EFP will depend on NMFS' review of public comments received on the application, consultations with the affected state, the South Atlantic Fishery Management Council, and the U.S. Coast Guard, as well as a determination that it is consistent with all applicable laws.

Authority: 16 U.S.C. 1801 et seq.

Dated: July 8, 2010.
Carrie Selberg,
Acting Director, Office of Sustainable Fisheries, National Marine Fisheries Service.

[FR Doc. 2010-17058 Filed 7-12-10; 8:45 am]

BILLING CODE 3510-22-S